DEPARTMENT OF AGRICULTURE

Food and Nutrition Service

Agency Information Collection Activities; Proposed Collection; Comment Request: Determining Eligibility for Free and Reduced Price Meals and Free Milk

AGENCY: Food and Nutrition Service, USDA.

ACTION: Notice.

SUMMARY: In accordance with the Paperwork Reduction Act of 1995, this notice invites the general public and other public agencies to comment on a proposed information collection. This collection is a revision of a currently approved collection for determining eligibility for free and reduced price meals and free milk in schools as stated in 7 CFR Part 245. These federal requirements affect eligibility under the National School Lunch Program, School Breakfast Program, and the Special Milk Program and are also applicable to the Child and Adult Care Food Program and the Summer Food Service Program when individual eligibility must be established. The current approval for the information collection burden associated with 7 CFR Part 245 expires on March 31, 2013. The revisions being requested are from rulemaking and are also from revisions made to a form associated with this information collection.

DATES: Written comments must be submitted by August 7, 2012.

ADDRESSES: Comments are invited on: (a) Whether the proposed collection of information is necessary for the proper performance of the functions of the agency, including whether the information will have practical utility; (b) the accuracy of the agency's estimate of the burden of the proposed collection of information, including the validity of the methodology and assumptions that were used; (c) ways to enhance the quality, utility, and clarity of the information to be collected; and (d) ways to minimize the burden of collection of information on those who are to respond, including use of appropriate automated, electronic, mechanical, or other technological collection techniques or other forms of information technology.

Comments may be sent to: Jon Garcia, Acting Branch Chief, Program Analysis and Monitoring Branch, Child Nutrition Division, Food and Nutrition Service, U.S. Department of Agriculture, 3101 Park Center Drive, Room 640, Alexandria, Virginia 22302. Comments will also be accepted through the Federal eRulemaking Portal. Go to http://www.regulations.gov, and follow the online instructions for submitting comments electronically.

All written comment(s) will be open for public inspection at the office of the Food and Nutrition Service during regular business hours (8:30 a.m. to 5 p.m., Monday through Friday) at 3101 Park Center Drive, Room 640, Alexandria, Virginia 22302.

All responses to this notice will be summarized and included in the request for Office of Management and Budget (OMB) approval, and will become a matter of public record.

FOR FURTHER INFORMATION CONTACT: Jon Garcia at (703) 305-2600.

SUPPLEMENTARY INFORMATION: Title: Determining Eligibility for Free and Reduced Price Meals and Free Milk in Schools—7 CFR Part 245.

OMB Number: 0584-0026.

Expiration Date: March 31, 2013.

Type of Request: Revision of a currently approved collection.

Form Number: FNS-742.

Abstract: The Food and Nutrition Service administers the National School Lunch Program, the School Breakfast Program, and the Special Milk Program as mandated by the Richard B. Russell National School Lunch Act (NSLA), as amended (42 U.S.C. 1751, et seq.), and the Child Nutrition Act of 1966, as amended (42 U.S.C. 1771, et seq.). As provided in 7 CFR Part 245, schools participating in these meal programs must make free and reduced price meals available to eligible children. Similarly, all schools and institutions participating in the free milk option of the Special Milk Program must make free milk available for eligible children. This information collection obtains eligibility information for free and reduced price meals and free milk and also incorporates verification procedures as required to confirm eligibility. FNS uses form FNS-742, titled “School Food Authority Verification Summary Report,” for State agencies to report data on verification of eligibility to FNS as required by 7 CFR 245.6a(h). All State agencies report this data electronically to FNS. The FNS-742 form has been recently revised and the title slightly modified (refer to Appendix A at the end of this notice). The estimated time for completion has been increased to 45 minutes per School Food Authority response; therefore, the previously approved reporting burden hours have increased by 5,215 hours for this form.

In addition, this information collection is also requesting a revision in the burden hours due to rulemaking. The revision is based on the implementation of an interim final rule titled, “Direct Certification and Certification of Homeless, Migrant and Runaway Children for Free School Meals,” published April 25, 2011, Federal Register, Vol. 76, No. 79, pp. 22785-22802, which incorporates into 7 CFR part 245 provisions from the Child Nutrition and WIC Reauthorization Act of 2004, Public Law 108-265, concerning the direct certification of children receiving Supplemental Nutrition Assistance Program (SNAP) benefits and also the certification of certain children who are homeless, runaway, or migratory. The revisions decrease the total approved reporting burden by −113,070 hours due to a reduction in household reporting burden as well as increase the total approved recordkeeping burden by 5 hours for State agencies.

Affected Public: Individuals/Households, School Food Authorities, and State Agencies.

Estimated Number of Respondents: 8,303,871.

Estimated Number of Responses per Respondent: 2.2350528.

Estimated Total Annual Responses: 18,559,590.

Estimated Time per Response: 0.05202604.

Estimated Total Annual Burden on Respondents: 965,582.

Current OMB Inventory: 1,073,432.

Difference (Burden Revisions Requested): −107,850.

Refer to the following tables for estimated total annual reporting and recordkeeping burden per each type of respondent:

Table 1—Reporting
(a) Affected public | (b) Form no. | (c) Estimated no. respondents | (d) Estimated no. responses per respondent | (e) Estimated total annual responses (c × d) | (f) Estimated hours per response | (g) Estimated total annual burden hours (e × f)
Reporting Burden:
State Agencies | * 742 | 56 | 5.79 | 324 | 1.163 | 377
School Food Authorities | * 742 | 20,858 | 483.1047 | 10,076,598 | 0.0283325 | 285,495
Individuals/Households | N/A | 8,262,043 | 1.0232267 | 8,453,943 | 0.0796859 | 673,660
Total |  | 8,282,957 | 2.237228 | 18,530,865 | 0.0514988 | 959,532
* Form FNS-742 does not incur all of the burden associated with the affected respondents.

Table 2—Recordkeeping
(a) Affected public | (b) Form no. | (c) Estimated no. respondents | (d) Estimated no. responses per respondent | (e) Estimated total annual responses (c × d) | (f) Estimated hours per response | (g) Estimated total annual burden hours (e × f)
Recordkeeping Burden:
State Agencies | * 742 | 56 | 120.98 | 6,775 | 0.2483 | 1,682
School Food Authorities | N/A | 20,858 | 1.05235 | 21,950 | 0.199 | 4,368
Total |  | 20,914 | 1.3735 | 49,639 | 0.21062 | 6,050
* Form FNS-742 does not incur all of the burden associated with the affected respondents.

Estimated Total Reporting and Recordkeeping Burden: 965,582 hours.

Dated: June 4, 2012.
Robin D. Bailey, Jr.,
Acting Administrator, Food and Nutrition Service.

Attachment

BILLING CODE 3410-30-P

[FR Doc. 2012-13943 Filed 6-7-12; 8:45 am]

BILLING CODE 3410-30-C